ANTITRUST MODERNIZATION COMMISSION

Notice of Public Hearings

AGENCY: Antitrust Modernization Commission.

ACTION: Notice of public hearings.

SUMMARY: The Antitrust Modernization Commission will hold a public hearing on February 15, 2006. The topic of the hearing is international antitrust issues.

DATES: February 15, 2006, 10 a.m. to 12 p.m. Interested members of the public may attend. Registration is not required.

ADDRESSES: Federal Trade Commission, Conference Center, 601 New Jersey Avenue, NW., Washington, DC.

FOR FURTHER INFORMATION CONTACT: Andrew J. Heimert, Executive Director & General Counsel, Antitrust Modernization Commission: telephone: (202) 233-0701; e-mail: info@amc.gov. Mr. Heimert is also the Designated Federal Officer (DFO) for the Antitrust Modernization Commission.

SUPPLEMENTARY INFORMATION: The purpose of these hearings is for the Antitrust Modernization Commission to take testimony and receive evidence regarding international antitrust issues. Materials relating to the hearing, including a list of witnesses and the prepared statements of the witnesses, will be made available on the Commission's Web site (http://www.amc.gov) in advance of the hearings.

Interested members of the public may submit written testimony on the subject of the hearing in the form of comments, pursuant to the Commission's request for comments. See 70 FR 28,902 (May 19, 2005); 70 FR 69,510 (Nov. 16, 2005). Members of the public will not be provided with an opportunity to make oral remarks at the hearing.

The AMC is holding this hearing pursuant to its authorizing statute. Antitrust Modernization Commission Act of 2002, Public Law No. 107-273, § 11057(a), 116 Stat. 1758, 1858.

Dated: January 25, 2006.
By direction of the Antitrust Modernization Commission.
Andrew J. Heimert,
Executive Director & General Counsel, Antitrust Modernization Commission.

[FR Doc. E6-1094 Filed 1-27-06; 8:45 am]

BILLING CODE 6820-YH-P